DEPARTMENT OF HEALTH AND HUMAN SERVICES

Administration for Children and Families

Proposed Information Collection Activity; National Human Trafficking Training and Technical Assistance Center (NHTTAC) Evaluation Package (OMB #0970-0519)

AGENCY: Office on Trafficking in Persons, Administration for Children and Families, U.S. Department of Health and Human Services.

ACTION: Request for public comments.

SUMMARY: The Office on Trafficking of Persons (OTIP), Administration for Children and Families (ACF), U.S. Department of Health and Human Services (HHS), is requesting renewal with revisions to the instruments previously approved for the National Human Trafficking Training and Technical Assistance Center (NHTTAC) Evaluation Package (Office of Management and Budget (OMB) #0970-0519, expiration March 31, 2023). Items were expanded to include measures related to specific skills, competencies, and knowledge and outcomes at the organizational and community levels, and the annual burden has increased for several forms.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The NHTTAC delivers training and technical assistance (T/TA) to inform and deliver a public health response to trafficking. In applying a public health approach, NHTTAC holistically builds the capacity of professionals, organizations, and communities to identify and respond to the complex needs of all individuals who have experienced trafficking or who have increased risk factors for trafficking and address the root causes that put individuals, families, and communities at risk of trafficking. These efforts ultimately help improve the availability and delivery of coordinated and trauma-informed services before, during, and after an individual's trafficking exploitation, regardless of their age, gender identity, sexual orientation, race/ethnicity, nationality, or type of exploitation experienced.

NHTTAC hosts a variety of services, programs, and facilitated sessions to improve service provision to people who have experienced trafficking or who have increased risk factors for trafficking, including The Human Trafficking Leadership Academy (HTLA); SOAR (Stop, Observe, Ask, and Respond) to Health and Wellness; OTIP-funded recipients; both short-term and specialized T/TA requests; the NHTTAC Customer Support; and information through NHTTAC's website, resources, and materials about trafficking. This information collection is intended to collect feedback from participants to assess a diverse range of T/TA provided by NHTTAC.

Revisions have been made in order to:

• Respond to Postgraduate Institute for Medicine accreditation requirements through SOAR T/TA

• Reduce burden where applicable

• Provide flexibility for NHTTAC to assess new knowledge gains, application of skills/competencies, and outcomes of participants who received NHTTAC T/TA

• Understand NHTTAC's progress on improving diversity, equity, and inclusion

Respondents: NHTTAC T/TA participants include OTIP grant recipients, individuals with lived experience, professionals who interact with and provide services to individuals who have experienced trafficking, including healthcare, behavioral health, public health, and human service practitioners, organizations, and communities.

Annual Burden Estimates
Instrument | Annual number of respondents | Total number of responses per respondent | Average burden hours per response | Annual burden hours
Universal T/TA Participant Feedback-Long Version | 2,100 | 1 | 0.43 | 903
Universal T/TA Participant Feedback-Short Version | 50,000 | 1 | 0.10 | 5,000
Intensive T/TA Participant Feedback | 650 | 1 | 1.17 | 761
Follow Up Feedback | 10,000 | 1 | 0.50 | 5,000
Qualitative Guide | 2,000 | 1 | 1.50 | 3,000
Network Survey | 600 | 1 | 1.00 | 600
Client Satisfaction Survey | 1,000 | 1 | 0.08 | 83
Resources Feedback | 500 | 1 | 0.08 | 42
Requester Feedback | 250 | 1 | 0.12 | 29

Estimated Total Annual Burden Hours: 15,418.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology.

Consideration will be given to comments and suggestions submitted within 60 days of this publication.

(Authority: 22 U.S.C. 7104 and 22 U.S.C. 7105(c)(4))

Mary B. Jones,
ACF/OPRE Certifying Officer.

[FR Doc. 2022-19553 Filed 9-9-22; 8:45 am]

BILLING CODE 4187-47-P